DEPARTMENT OF HOUSING AND URBAN DEVELOPMENT

[Docket No. FR-4570-N-02]

Office of the Assistant Secretary for Public and Indian Housing; Notice of Funding Availability for Fair Share Allocation of Incremental Voucher Funding Fiscal Year 2000; Amendments to NOFA and Reopening of Application Period

AGENCY: Office of the Assistant Secretary for Public and Indian Housing, HUD.

ACTION: Notice of Fund Availability (NOFA); Amendments and Reopening of Application Period.

SUMMARY: On March 10, 2000, HUD published its FY 2000 NOFA for Fair Share Allocation of Incremental Voucher Funding (“Fair Share NOFA”). This document amends the selection criteria of this NOFA primarily to better reflect the appropriate weight in points that should have been assigned to the “housing needs” selection criterion so that need is the most important basis for allocating incremental voucher funding. As discussed in more detail in the Supplementary Information section of this notice, the points of other selection criteria are also revised to better reflect their appropriate weight, and the separate criterion for portability is removed. This notice also explains that HUD will substitute the number of “contracted units” for “HUD-approved budget” the number of certificates and vouchers on the latest HUD-approved budget when the number of a PHA's contracted units is higher than the number of a PHA's budgeted units.

The application period for the Fair Share NOFA closed on April 24, 2000. This notice reopens the application period for an additional 30 day period.

DATES: Applications are due on June 19, 2000.

Applicants that already submitted applications by the April 24, 2000, application due date, need not resubmit a new application, and need not amend their applications. Applicants that already submitted applications, however, may submit new or amended applications if they so choose.

SUPPLEMENTARY INFORMATION:

Background—March 10, 2000 NOFA

If you are interested in applying for funding under the Fair Share NOFA, and did not apply earlier, please review the entire Fair Share NOFA, published on March 10, 2000 (65 FR 13222). Except for the reopening of the application period and the revisions made by this document, all other provisions of the Fair Share NOFA are unchanged and remain applicable.

The March 10, 2000 Fair Share NOFA will provide you with detailed information regarding the submission of an application, Section 8 program requirements, the application selection process to be used by HUD in selecting applications for funding, and other valuable information relative to a PHA's application submission and participation in the program covered by this NOFA. The March 10, 2000 Fair Share NOFA is also available on HUD's internet site at http://www.hud.gov under “Funds Available.” This Federal Register notice amending the March 10, 2000 Fair Share NOFA is also available at the same HUD web site.

Reopening of Application Period

Application Due Date. Your completed application (an original and two copies) or any amendment to an earlier submitted application (also an original and two copies) is due on or before June 19, 2000 at the addresses shown below.

As noted earlier, applicants that already submitted applications by the April 24, 2000, application due date, need not resubmit a new application, and need not amend their applications. Applicants that already submitted applications, however, may submit new or amended applications if they so choose.

Submission of new or amended applications should clearly identify the name of the applicant, the applicant HA code (e.g. CA002), and whether the information submitted is new and replaces a previously submitted application in its entirety or is an addendum to the previously submitted application.

Address for Submitting Applications. Submit your original application or your original application amendment and one copy to Michael E. Diggs, Director of the Grants Management Center, Department of Housing and Urban Development, 501 School Street, SW, Suite 800, Washington, DC 20024.

Submit the second copy of your application or application amendment to the local HUD Field Office Hub, Attention: Director, Office of Public Housing, or to the local HUD Field Office Program Center, Attention: Program Center Coordinator.

The Grants Management Center is the official place of receipt for all applications in response to this NOFA.

Delivered Applications. If you are hand delivering your application, or application amendment, it is due on or before 5:00 pm, Eastern time, on the application due date to the Office of Public and Indian Housing's Grants Management Center (GMC) in Washington, DC. A copy is also to be submitted by the applicant to the local HUD Field Office Hub or local HUD Field Office Program Center.

This application deadline in this notice is firm as to date and hour. In the interest of fairness to all competing PHAs, HUD will not consider any application or application amendment that is received after the application deadline. Applicants should take this practice into account and make early submission of their materials to avoid any risk of loss of eligibility brought about by unanticipated delays or other delivery-related problems. HUD will not accept, at any time during the NOFA competition, application materials sent via facsimile (FAX) transmission.

Mailed Applications. Applications sent by U.S. mail will be considered timely filed if postmarked before midnight on the application due date and received within ten (10) days of that date.

Applications Sent by Overnight Delivery. Applications sent by overnight delivery will be considered timely filed if received before or on the application due date, or upon submission of documentary evidence that they were placed in transit with the overnight delivery service by no later than the specified application due date.

For Application Kit. An application kit is not available and is not necessary for submitting an application for funding under this NOFA. The March 10, 2000 Fair Share NOFA, as amended by this notice, contains all of the information necessary for the submission of an application for voucher funding in connection with this NOFA.

For Further Information and Technical Assistance. You may contact George C. Hendrickson, Housing Program Specialist, Room 4216, Office of Public and Assisted Housing Delivery, Department of Housing and Urban Development, Room 4216, 451 Seventh Street, SW, Washington, DC 20410; telephone (202) 708-1872, ext. 4064, or you may contact Ms. Sherry McCown at the Grants Management Center at (202) 358-0273. (These are not toll-free numbers.) Persons with hearing or speech impairments may access these numbers via TTY (text telephone) by calling the Federal Information Relay Service at 1-800-877-8339 (this is a toll-free number).

Amendments to Selection Criteria and Points Assigned

This document amends the selection criteria in Section IV of the March 10, 2000 Fair Share NOFA primarily to better reflect the appropriate weight in points that should have been assigned to the “housing needs” selection criterion so that need is the most important basis for allocating incremental voucher funding. Weights of other criteria are reduced accordingly. This document also alters or removes two selection criteria that do not assess a public housing agency's housing needs and are otherwise problematic. First, the residency preference subcategory is being altered to provide for the assignment of points to PHAs that will limit applicability of residency preferences to 15% of all new admissions to the program, as well as to those PHAs that do not have a residency preference or agree to eliminate one. This change is made in recognition that some PHAs with legally adopted residency preferences and great housing needs would have been penalized by the language provided in the March 10, 2000 Fair Share NOFA. Second, the portability selection criterion is removed because portability is adequately covered in the Area-Wide Housing Opportunities (Selection Criterion 2) and because the portability criterion would have awarded too many points for PHAs promising to absorb portable families with the new funds, relative to the March 10, 2000 Fair Share NOFA's treatment of PHAs that already are absorbing portable families. Because of the changes in the Selection Criteria, changes were required to be made to Attachment 2 to the March 10, 2000 Fair Share NOFA (Fair Share Application Checklist) and the amended checklist is included in this notice.

This document also revises the total amount of points a PHA is eligible to receive under the Fair Share NOFA. The March 10, 2000 Fair Share NOFA provided for a total of 160 points. The amendments made by this notice provide that the total number of points a PHA is eligible to receive is 100 points.

The changes made by this document are as follows:

• Selection Criterion 1: Housing Needs—the maximum number of points for this criterion is changed from 30 to 45 points, and the assignment of these points is based more specifically on the percentage of the State's housing need in the PHA's jurisdiction.

• Selection Criterion 2: Efforts of PHA to Provide Area-Wide Housing Opportunities for Families—the points for this criterion are changed from 60 to 30 points. To correspond to the reduction in the point total for this criterion, all the subcategories under Selection Criterion 2 are reduced from 10 to 5 points. In addition, the residency preference subcategory is changed as discussed above. PHAs that would have received points for this subcategory will still receive points and need submit nothing else unless they choose to amend their certification. PHAs that would not have received points but would qualify under the amended language need to submit the required certification.

• Selection Criterion 3: Local Initiatives—the points for this criterion are changed from 20 to 10 points.

• Selection Criterion 4: Disabled Families—the points for this criterion are changed from 20 to 10 points.

• Selection Criterion 5: Medicaid Home and Community Based Services Waivers under Section 1915(c) of the Social Security Act—the points for this criterion are changed from 10 to 5 points.

• Selection Criterion 6: Portability—this criterion is removed as a selection criterion for the reasons discussed above. Statements already submitted in response to this criterion will not be considered.

Substitution of “Contracted Units” for Budgeted Units When Number of Contracted Units Is Higher Than Number of Budgeted Units

In the March 10, 2000 Fair Share NOFA, HUD used the term “HUD-approved budget” in discussing the calculation of maximum funding allowed under the NOFA. For example, in Section V.(A) (“Fair Share Application Process”), HUD advises that the “The GMC may recommend for approval the maximum funding for a PHA under this NOFA that does not exceed the lesser of 25% of the PHA vouchers and certificates on the latest HUD-approved budget or 25% of the number of vouchers available in the State, whichever is less.” (See page 13226, first column). Reference to 25% of HUD-approved budget (“budgeted units”) for certificates and vouchers also appears in Section V(B) and Section VI(A) (also on page 13226).

Because the automated data on budgeted units are not optimal in all cases, through this notice, HUD provides notification that it will substitute in this calculation contracted units (i.e., the number of units under an Annual Contributions Contract) for the number of certificates and vouchers on the latest HUD-approved budget when the number of a PHA's contracted units is higher than the number of a PHA's budgeted units. The determination of contracted units shall be made in accordance with Attachment 3 (Methodology for Determining Lease-Up and Budget Authority Utilization Percentage Rates) to the March 10, 2000 Fair Share NOFA (see page 13229).

Accordingly, in the FY 2000 NOFA for Fair Share Allocation of Incremental Voucher Funding, notice document 00-6027, beginning at 65 FR 13222, in the issue of Friday, March 10 2000, the following amendments are made to Section IV of the NOFA at 65 FR 13224, and Attachment 2 at 65 FR 13229:

IV. Fair Share Application Rating Process

(A) Selection Criteria. The GMC will use the Selection Criteria shown below for the rating of applications submitted in response to this NOFA. The maximum score under the selection criteria for fair share funding is 100 points.

(1) Selection Criterion 1: Housing Needs (45 points).

(a) Description: This criterion assesses the housing need in the primary market area specified in the PHA's application compared with the housing need for the State. Housing need is defined as the number of very low-income renter households with severe rent burden, based on 1990 Census data. Very low-income is defined as income at or below the Section 8 very low-income limits. Severe rent burden is defined as a household paying 50 percent or more of its gross income for rent.

(b) Needs Data: For the purpose of this criterion, housing needs are based on a tabulation of 1990 Census data prepared for the Department by the Bureau of the Census. Data on housing needs are available for all States, all counties (county equivalents), and places with populations of 10,000 or more as of 1990. Information will be posted on the HUD Home Page site on the Internet's world wide web (http://www.hud.gov under “Funds Available”) indicating the proportion of each State's housing needs for primary markets.

(c) Rating and Assessment: The number of points assigned is based on the percentage of the State's housing need that is within the PHA's primary market area. The primary market area is defined as the jurisdiction (or its closest equivalent in terms of areas for which housing needs data are available) in which the PHA is authorized to operate and where the vouchers will be used, as described in its application. (See paragraph VI(C) of this NOFA regarding regional (multi-county) and State PHAs.)

(1) The GMC will assign the following points :

• 45 points (maximum). For each percentage point of the State's housing need (rounded to the nearest percentage point), the PHA will receive two points.

(2) A State, regional or multi-county PHA will receive points based on the areas it serves where the vouchers will be used, e.g., the entire State or the sum of the housing needs for the counties and/or localities comprising its primary market area.

(3) A PHA with a primary market area that is a community with a population of 10,000 or less, or a PHA for which housing needs data are not available, will receive 2 points.

(2) Selection Criterion 2: Efforts of PHA to Provide Area-Wide Housing Opportunities for Families (30 points).

(a) Description: Many PHAs have undertaken voluntary efforts to provide area-wide housing opportunities for families. The efforts described in response to this selection criterion must be beyond those required by federal law or regulation such as the portability provisions of the Section 8 voucher program. The GMC will assign points to PHAs that have established cooperative agreements with other PHAs or created a consortium of PHAs in order to facilitate the transfer of families and their rental assistance between PHA jurisdictions. In addition, the GMC will assign points to PHAs that have established relationships with non-profit groups to provide families with additional counseling, or have directly provided counseling, to increase the likelihood of a successful move by the families to areas that do not have large concentrations of poverty.

(b) Rating and Assessment: The GMC will assign point values for any of the following assessments for which the PHA qualifies and add the points for all the assessments (maximum of 30 points) to determine the total points for this Selection Criterion:

• 5 Points—Assign 5 points if the PHA documents that it participates in an area-wide exchange program where all PHAs absorb portable Section 8 families.

• 5 Points—Assign 5 points if the PHA certifies that (i) its administrative plan does not include a “residency preference” for selection of families to participate in its voucher program, or (ii) it will eliminate immediately any “residency preference” currently in its administrative plan, or (iii) it will limit applicability of residency preferences to 15% of all new admissions to the voucher program.

• 5 Points—Assign 5 points if the PHA documents that it has established a contractual relationship with a non-profit agency or the local governmental entity to provide housing counseling for families that want to move to low-poverty or non-minority areas. The five PHAs approved for the FY 93 Moving to Opportunity (MTO) for Fair Housing Demonstration, PHAs participating in the Regional Opportunity Counseling (ROC) Program, and any other PHAs that receive counseling funds from HUD in connection with the demolition of public housing, public housing vacancy consolidation, or settlement of litigation involving desegregation may qualify for points under this assessment. However, these PHAs must identify all activities undertaken, other than those funded and required under the MTO Demonstration, ROC Program, or the court-ordered plans or plans for relocating public housing families, to expand housing opportunities.

• 5 Points—Assign 5 points if the PHA documents that it participates with other PHAs in using a metropolitan wide or combined waiting list for selecting participants in the program.

• 5 Points—Assign 5 points if the PHA documents that it has implemented other initiatives that have resulted in expanding housing opportunities in areas that do not have undue concentrations of poverty or minority families.

• 5 Points—Assign 5 points if the PHA has formed a consortium or joint venture with other PHAs to administer its voucher program.

(3) Selection Criterion 3: Local Initiatives (10 points).

(a) Description: The application must describe the extent to which the PHA demonstrates locally initiated efforts in support of its voucher and certificate programs or comparable tenant-based rental assistance programs. Evaluation of a locality's contribution is measured competitively by whether the locality is able to provide services, cash contributions, or tax abatements to rental property owners leasing to Section 8 families, or demonstrates its intention to provide this kind of support in the future.

(b) Rating and Assessment: The GMC will assign one of two point-values, as follows:

• 10 points: The State or locality provides local support (e.g., financial, manpower for inspection services) to its voucher or certificate program.

• 0 points: The State or locality does not provide support to the PHA's voucher or certificate program.

(4) Selection Criterion 4: Disabled Families (10 points).

(a) Description: The GMC will assign 10 points to PHAs that indicate at least 15 percent or more of the vouchers they are requesting (or funded by HUD) under this NOFA will be used to house disabled families. The PHA's application must be specific as to the exact percentage of vouchers that will be issued solely to disabled families. Disabled families are defined as follows:

(i) Disabled Family. A family whose head, spouse, or sole member is a person with disabilities. The term “disabled family” may include two or more such persons with disabilities living together, and one or more such persons with disabilities living with one or more persons who are determined essential to the care and well-being of the person or persons with disabilities (live-in aides).

(ii) Person with disabilities. A person who—

a. Has a disability as defined in section 223 of the Social Security Act (42 U.S.C. 423), or

b. Is determined to have a physical, mental or emotional impairment that:

1. Is expected to be of long-continued and indefinite duration;

2. Substantially impedes his or her ability to live independently; and

3. Is of such a nature that such ability could be improved by more suitable housing conditions, or

c. Has a developmental disability as defined in section 102 of the Developmental Disabilities Assistance and Bill of Rights Act (42 U.S.C. 6001(5)).

The term “person with disabilities” does not exclude persons who have the disease of acquired immunodeficiency syndrome (AIDS) or any conditions arising from the etiologic agent for acquired immunodeficiency syndrome (HIV).

(Note: While the above definition of a “person with disabilities” is to be used for purposes of determining a family's eligibility for a Section 8 voucher designated as being for a disabled family under this NOFA, the definition of a person with disabilities contained in section 504 of the Rehabilitation Act of 1973 and its implementing regulations must be used for purposes of meeting the requirements of Fair Housing laws, including providing reasonable accommodations.)

No individual shall be considered a person with disabilities for the purpose of determining eligibility solely on the basis of any drug or alcohol dependence.

(b) Rating and Assessment: The GMC will assign one of two point values, as follows:

• 10 points: The PHA will use not less than 15 percent of the vouchers being requested (or funded by HUD) to house disabled families.

• 0 points: The PHA will use less than 15 percent of the vouchers it is requesting (or funded by HUD) to house disabled families.

(5) Selection Criterion 5: Medicaid Home and Community Based Services Waivers Under Section 1915(c) of the Social Security Act (5 points).

(a) Description: This selection criterion is for PHAs interested in the provision of Section 8 voucher assistance to families within their jurisdiction who are disabled and also covered under a waiver of Section 1915(c) of the Social Security Act. Section 1915(c) waivers are approved by the Health Care Financing Administration within the Department of Health and Human Services (HHS) for the agency within each State responsible for the administration of the medicaid program. Contacting the responsible State agency (for example, the Agency for Health Care Administration in the State of Florida) will assist the PHA in determining how many, if any, individuals are covered by a Section 1915(c) waiver in the PHA's legal area of operation. These waivers allow medicaid-eligible individuals at risk of being placed in hospitals, nursing facilities or intermediate care facilities the alternative of being cared for in their homes and communities. These individuals are thereby assisted in preserving their independence and ties to family and friends at a cost no higher than that of institutional care.

While a Section 1915(c) waiver may cover individuals other than those who are disabled, the focus of Selection Criterion 5 is on disabled families only. The definition of disabled families listed under Selection Criterion 4 will be used by PHAs for purposes of the issuance of vouchers to disabled families in connection with Selection Criterion 5; i.e., only those individuals that meet the definition of a disabled family in this announcement are to be considered in connection with a PHA determining how many such disabled families are covered by a Section 1915(c) waiver in their legal area of operation and whether to try to qualify for the 5 points available under Selection Criterion 5. The PHA's application must be specific as to the percentage of vouchers that will be issued to such disabled families.

Any PHA attempting to qualify for the 5 points available under Selection Criterion 5 should also include information within its application indicating the collaborative efforts already undertaken with the responsible State agency to identify eligible families, as well as agreements reached with that agency for future referrals of such families. HUD reserves the right at some future point in time to conduct an evaluation of the success of the PHA's efforts to collaborate with the State agency and to successfully house individuals that meet the requirements of being covered by a Section 1915(c) waiver, qualify as a disabled family under this announcement, and are otherwise eligible for a Section 8 voucher.

(b) Rating and Assessment: The GMC will assign one of two point values as follows:

• 5 points: The PHA will use not less than 3 percent of the vouchers being requested (or funded by HUD) to house Section 8 eligible, disabled families covered by a waiver under Section 1915(c) of the Social Security Act.

• 0 points: The PHA will use less than 3 percent of the vouchers it is requesting (or funded by HUD) to house Section 8 eligible, disabled families covered by a waiver under Section 1915(c) of the Social Security Act.

(c) Prohibition Against Double Counting. The number (percentage) of disabled families that a PHA indicates it will issue vouchers to when qualifying for the 5 points available under Selection Criterion 5 cannot be used to also qualify for the 10 points available under Selection Criterion 4 or conversely.

Dated: May 15, 2000.
Harold Lucas,
Assistant Secretary for Public and Indian Housing.

BILLING CODE 4210-33-P

[FR Doc. 00-12586 Filed 5-15-00; 4:58 pm]

BILLING CODE 4210-33-C